DEPARTMENT OF THE TREASURY

Financial Crimes Enforcement Network

31 CFR Parts 1010

Financial Crimes Enforcement Network; Inflation Adjustment of Civil Monetary Penalties; Correction

Correction

In rule document 2019-21156 beginning on page 51973 in the issue of Tuesday, October 1, 2019, make the following correction:

§ 1010.821 [Corrected]

On page 51974, Table 1 should read as follows:

Table 1 of § 1010.821—Penalty Adjustment Table
U.S. Code citation | Civil monetary penalty description | Penalties as last amended by statute | New maximum penalty amounts or range of minimum and maximum penalty amounts for penalties assessed after 1/15/2017 but before 3/19/2018 | New maximum penalty amounts or range of minimum and maximum penalty amounts for penalties assessed after 3/18/2018
* * * * * * *

* * * * *

[FR Doc. C1-2019-21156 Filed 10-3-19; 8:45 am]

BILLING CODE 1505-01-D